DEPARTMENT OF JUSTICE

Antitrust Division

Notice Pursuant to the National Cooperative Research and Production Act of 1993—American Association of Textile Chemists and Colorists

Notice is hereby given that, on September 13, 2004, pursuant to section 6(a) of the National Cooperative Research and Production Act of 1993, 15 U.S.C. 4301 et seq. (“the Act”), American Association of Textile Chemists and Colorists (“AATCC”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: American Association of Textile Chemists and Colorists, Research Triangle Park, NC. The nature and scope of AATCC's standards development activities are: to increase knowledge of the application of dyes and chemicals in the textile industry; encouragement of research on chemical processes and materials of important interest to the textile industry; and establishment of channels for information exchange among members. AATCC develops test methods and evaluation procedures through research committees composed of volunteers from the following sectors: primary textile industry; fiber and yarn suppliers; chemical and dyes suppliers; machinery and instrument suppliers; retail, government, and independent testing laboratories; and academicians. Methods are grouped into the following categories: biological properties; colorfastness; dyeing properties; identification and analysis; and physical properties. AATCC test methods do not set pass/fail criteria or standards for performance. They provide a standard means for testing, often with an evaluation scale.

Dorothy B. Fountain,
Deputy Director of Operations, Antitrust Division.

[FR Doc. 04-25850 Filed 11-19-04; 8:45 am]

BILLING CODE 4410-11-M